DEPARTMENT OF AGRICULTURE

Forest Service

California Recreation Resource Advisory Committee

AGENCY: Pacific Southwest Region, Forest Service, U.S. Department of Agriculture.

ACTION: Request for applications.

SUMMARY: Applications are being sought for certain positions on the California Recreation Resource Advisory Committee. New members will be appointed by the Secretary of Agriculture and serve three-year terms. Appointments will begin July 2009 when current member appointments expire. One member is being sought to represent each of the following interests: (1) Winter Motorized Recreation, (2) Hunting and Fishing; and (3) Motorized Outfitting and Guiding or Local Environmental Groups.

The public is invited to submit applications for these positions. Current members who have only served one term may reapply. Application packages can be obtained at http://www.fs.fed.us/passespermits/rrac-application.shtml or by e-mailing R5rrac@fs.fed.us. Interested parties may also contact Frances Enkoji, U.S. Forest Service, at 707-562-8846.

DATES: All applications must be received by January 5, 2009. This timeframe can be extended if officials do not receive applications for the needed positions.

ADDRESSES: Interested parties may submit applications by mail to Frances Enkoji, U.S. Forest Service, 1323 Club Drive, Vallejo, CA 94592.

FOR FURTHER INFORMATION CONTACT: Anyone wanting further information regarding the California Recreation Resource Advisory Committee may contact Marlene Finley, Designated Federal Official, Pacific Southwest Region Recreation RAC, 1323 Club Drive, Vallejo, CA 94592; 707-562-8856.

SUPPLEMENTARY INFORMATION: The Federal Lands Recreation Enhancement Act (REA), signed December 2004, requires that the Forest Service and Bureau of Land Management provide Recreation RACs with an opportunity to make recommendations to the two agencies on implementing or eliminating standard amenity fees; expanded amenity fees; and noncommercial special recreation permit fees; expanding or limiting the recreation fee program; and fee level changes. Each Recreation RAC consists of 11 members appointed by the Secretary.

Nomination Information: Applicants must complete an AD-755 form (Advisory Committee or Search and Promotion Background Information) and provide a narrative that addresses the following:

(1) What group or perspective they represent and how they are qualified to represent that group;

(2) Why they want to serve on the committee and what they can contribute;

(3) Their past experience in working successfully as part of a collaborative group.

Letters of recommendation are welcome but not required. Applicants do not need to live in a state within a particular Recreation RAC's area of jurisdiction nor live in a state in which Forest Service managed lands are located. Application packages, including evaluation criteria and AD-755 are available at http://www.fs.fed.us/passespermits/rrac application.shtml or by contacting the Pacific Southwest Region as identified in this notice. Completed application packages must be received by January 5, 2009. Additional information about the California Recreation RAC can be found at http://www.fs.fed.us/r5/passes/rrac or about recreation fees at http://www.fs.fed.us/passespermits/about-rec-fees.shtml. The Forest Service will also work the Governor and local officials to identify potential applicants. The Forest Service and Bureau of Land Management will review applications and prepare a list of qualified applicants from which the Secretary shall appoint both members and alternates. The alternate will become a participating member of the Recreation RAC only if the member for whom the alternate is appointed to replace leaves the committee permanently. Recreation RAC members serve without pay but are reimbursed for travel and per diem expenses for regularly scheduled meetings. All Recreation RAC meetings are open the public and an open public forum is part of each meeting. Meeting dates and time will be determined by agency officials in consultation with the Recreation RAC members.

Dated: November 26, 2008.
Lynn Boone,
Acting Designated Federal Official, Recreation RAC, Pacific Southwest Region.

[FR Doc. E8-28686 Filed 12-3-08; 8:45 am]

BILLING CODE 3410-11-M